DEPARTMENT OF TRANSPORTATION

Federal Highway Administration

Environmental Impact Statement: Boulder, Broomfield, and Jefferson Counties, CO

AGENCY: Federal Highway Administration (FHWA), Department of Transportation (DOT).

ACTION: Notice of intent.

SUMMARY: The FHWA is issuing this notice to advise the public that an Environmental Impact Statement will be prepared for a proposed transportation improvement project in Boulder, Broomfield, and Jefferson Counties, Colorado.

FOR FURTHER INFORMATION CONTACT: Mr. Shaun Cutting, Senior Operations Engineer, FHWA, Colorado Division, 555 Zang Street, Room 250, Lakewood, CO, 80228, Telephone: (303) 969-6730 extension 369. Mr. William McDonnell, Project Engineer, Colorado Department of Transportation Region 6, 2000 South Holly Street, Denver, Colorado 80222, Telephone: (303) 757-9914.

SUPPLEMENTARY INFORMATION: The FHWA, in cooperation with the Colorado Department of Transportation (CDOT), will prepare an environmental impact statement (EIS) in accordance with the National Environmental Policy Act (NEPA) for an improved connection between the western terminus of the Northwest Parkway in Broomfield County and the SH 58, I-70, or C-470 freeway systems to the south in Jefferson County. This connection is considered necessary to address the need for system linkage, to provide for existing and projected transportation demand, to improve safety, and to enhance modal interrelationships, within the Northwestern Quadrant of the Denver Metropolitan Area:

Alternatives under consideration include but are not limited to (1) taking no action; (2) construction of a new highway alignment; (3) improvement of the existing highway network; (4) improvement of the existing arterial system; (5) transit options; and, (6) expansion to the existing bus system.

Letters describing the proposed action and soliciting comments will be sent to appropriate Federal, State, and local agencies, and to private organizations and citizens who have previously expressed or are known to have interest in this proposal. A series of public and agency meetings will be held in the project area in January 2004. In addition, public hearings will be held after the publication and issuance of the Draft Environmental Impact Statement and the Final Environmental Impact Statement. Public notice will be given of the time and place of the meetings and hearings. The Draft Environmental Impact Statement and Final Environmental Impact Statement will be available for public and agency review and comment prior to the public hearings.

To ensure that the full range of issues related to this proposed action are addressed and all significant issues identified, comments and suggestions are invited from all interested parties. Comments or questions concerning this proposed action and the EIS should be directed to the FHWA or the Colorado Department of Transportation at the addresses provided above.

(Catalog of Federal Domestic Assistance Program Number 20.205, Highway Planning and Construction. The regulations implementing Executive Order 12372 regarding intergovernmental consultation on Federal programs and activities apply to this program)

Issued on: July 14, 2003.
William C. Jones,
Division Administrator, Lakewood, Colorado.

[FR Doc. 03-18349 Filed 7-18-03; 8:45 am]

BILLING CODE 4910-22-M